DEPARTMENT OF COMMERCE

International Trade Administration

[A-533-857]

Certain Oil Country Tubular Goods From India: Amendment of Antidumping Duty Order

AGENCY: Enforcement and Compliance, International Trade Administration, Commerce.

SUMMARY: On March 16, 2017, the United States Court of International Trade (CIT) entered final judgment sustaining the final results of remand redetermination pursuant to court order by the Department of Commerce (Department) pertaining to the less-than-fair-value (LTFV) investigation of certain oil country tubular goods (OCTG) from India. This judgment was not appealed within the 60-day deadline, and became final and conclusive on May 15, 2017. The Department previously notified the public that the final judgment in this case is not in harmony with the Department's final determination in the LTFV investigation of OCTG from India. Because the judgement in this case is final and conclusive, the Department is now amending its antidumping duty order on OCTG from India covering the period of investigation (POI) of July 1, 2012, through June 30, 2013, to exclude GVN Fuels Limited (GVN) from the order and revise the dumping margin for Jindal SAW, Limited (Jindal SAW).

DATES: Effective March 26, 2017.

FOR FURTHER INFORMATION CONTACT: Andrew Huston, AD/CVD Operations, Office VII, Enforcement and Compliance, International Trade Administration, U.S. Department of Commerce, 1401 Constitution Avenue NW., Washington, DC 20230; telephone: (202) 482-4261.

SUPPLEMENTARY INFORMATION:

Background

On July 18, 2014, the Department published its final determination of sales at LTFV and final negative determination of critical circumstances in this proceeding.¹ The Department reached affirmative determinations for mandatory respondents GVN and Jindal SAW. On September 2, 2014, the International Trade Commission notified the Department of its affirmative determination that an industry in the United States was materially injured by reason of LTFV imports of OCTG from India.² On September 10, 2014, the Department published the antidumping duty orders on OCTG from India, the Republic of Korea, Taiwan, the Republic of Turkey, and the Socialist Republic of Vietnam,³and a correction on October 3, 2014.⁴ U.S. Steel appealed the Final Determination to the CIT, and on May 5, 2016, the CIT sustained, in part, and remanded, in part, the Final Determination.⁵ The court remanded the Final Determination to the Department with respect to its differential pricing analysis, specifically the Department's application and explanation of its ratio test in this case, for further explanation and consideration.⁶ Further, the court remanded for further explanation and consideration the Department's determinations that: (1) Jindal SAW was unaffiliated with certain suppliers of inputs; (2) Jindal SAW's yield loss data reasonably reflected its costs of production; and (3) the highest COP in GVN's cost database should be assigned to its dual-grade products.⁷ On August 31, 2016, the Department issued its final results of redetermination pursuant to remand, in accordance with the CIT's order.⁸ On remand, the Department revised the weighted-average dumping margins for both GVN and Jindal SAW. On March 16, 2017, the CIT sustained the Department's Final Redetermination.⁹ Parties had 60 days to appeal the CIT's judgement. No party appealed the decision.

¹ See Final Determination of Sales at Less Than Fair Value and Final Negative Determination of Critical Circumstances: Certain Oil Country Tubular Good from India, 79 FR 41981 (July 18, 2014) (Final Determination).

² See Letter from the ITC to the Department, dated September 2, 2014; see also Certain Oil Country Tubular Goods from India, Korea, Philippines, Taiwan, Thailand, Turkey, Ukraine, and Vietnam (Investigation Nos. 701-TA-499-500 and 731-TA-1215-1217 and 1219-1223 (Final), USITC Publication 4489, September 2014).

³ See Certain Oil Country Tubular Goods from India, the Republic of Korea, Taiwan, the Republic of Turkey, and the Socialist Republic of Vietnam: Antidumping Duty Orders; and Certain Oil Country Tubular Goods From the Socialist Republic of Vietnam: Amended Final Determination of Sales at Less Than Fair Value, 79 FR 53691 (September 10, 2014) (Orders).

⁴ See Certain Oil Country Tubular Goods from India, the Republic of Korea, Taiwan, the Republic of Turkey, and the Socialist Republic of Vietnam: Notice of Correction to the Antidumping Duty Orders With Respect to Turkey and the Socialist Republic of Vietnam, 79 FR 59740 (October 3, 2014).

⁵ See United States Steel Corp. v. United States, 179 F. Supp. 3d 1114 (CIT 2016) (US Steel).

⁶ See US Steel, 179 F. Supp. 3d at 1120.

⁷ Id.

⁸ See Final Results of Redetermination Pursuant to Remand, United States Steel Corporation et al. and Maverick Tube Corporation et al. v. United States, Consolidated Court No. 14-00263, dated August 31, 2017 (Final Redetermination).

⁹ See United States Steel Corporation et al. v. United States, Slip Op. 17-28, Consolidated Court No. 14-00263 (CIT 2017).

In response to the CIT's March 16, 2017, decision, the Department published a notice of court decision that is not in harmony with a Department determination, and amended its Final Determination with respect to GVN and Jindal SAW.¹⁰ The revised weighted-average dumping margin for GVN is 1.07 percent. The revised weighted-average dumping margin for Jindal SAW is 11.24 percent. Neither GVN or Jindal SAW have a superseding cash deposit rate (e.g. from an administrative review) and, therefore, the Department issued amended cash deposit instructions to U.S. Customs and Border Protection on May 10, 2017.¹¹

¹⁰ See Certain Oil Country Tubular Goods from India: Notice of Court Decision Not in Harmony With Final Determination of Sales at Less Than Fair Value and Final Negative Determination of Critical Circumstances and Notice of Amended Final Determination, 82 FR 17631 (April 12, 2017).

¹¹ See Message No. 7130310, dated May 10, 2017 (Message No. 7130310).

Amendment of the Order on OCTG From India

The period to appeal the CIT's decision has passed, and a final and conclusive court decision has been reached in this case. Therefore, the Department is amending the antidumping duty order ¹² on OCTG from India to exclude from the order subject merchandise produced and exported by GVN because the revised weighted-average dumping margin for GVN is de minimis. This exclusion does not apply to merchandise produced by GVN and exported by any other company or merchandise produced by any other company and exported by GVN. Resellers of merchandise produced by GVN, are also not entitled to this exclusion.

¹² See Orders.

Estimated Weighted-Average Dumping Margins

The estimated weighted-average dumping margins are as follows:

Exporter or producer | Estimated weighted- average dumping margins (percent) ¹³
Jindal SAW | 11.24
All Others | 5.79

¹³ Cash deposit rates are lower than estimated weighted-average dumping margins due to offsets for export subsidies.

Continuation of Suspension of Liquidation, in Part

In accordance with section 735(c)(1)(B) of the Act, the Department has instructed CBP to continue to suspend liquidation on all relevant entries of OCTG from India.¹⁴ These instructions suspending liquidation will remain in effect until further notice. However, because the estimated weighted-average dumping margin for merchandise produced and exported by GVN's is de minimis, the Department is directing U.S. Customs and Border Protection to liquidate all entries produced and exported by GVN currently suspended without regard to antidumping duties, and to not to suspend liquidation of entries of subject merchandise where GVN acted as both the producer and exporter. Entries of subject merchandise exported to the United States by any other producer and exporter combination involving GVN are not entitled to this exclusion from suspension of liquidation and are subject to the cash deposit rate for the all-others entity.

¹⁴ See Orders at 53692; see also Message No. 4262301, dated September 19, 2017, and Message No. 7130310.

Notification to Interested Parties

This notice constitutes the amended antidumping duty order with respect OCTG from India. This notice is issued and published in accordance with sections 516A(e)(1) and 736(a) of the Act.

Dated: June 14, 2017.
Ronald K. Lorentzen,
Acting Assistant Secretary for Enforcement and Compliance.

[FR Doc. 2017-12819 Filed 6-19-17; 8:45 am]

BILLING CODE 3510-DS-P